DEPARTMENT OF HOUSING AND URBAN DEVELOPMENT

[Docket No. FR-4655-N-12]

Submission for OMB Review: Review of Health Care Facility Portfolios

AGENCY: Office of Assistant Secretary for Housing, HUD.

ACTION: Notice of proposed information collection requirement.

SUMMARY: The Department of Housing and Urban Development (HUD) will be publishing a Notice which establishes classifications of owners and or operators of health care facilities: owners of large portfolios of health care facilities; owners of mid-size portfolios, and owners of small portfolios. The mid-size and large owners who intend to finance or refinance 11 or more health care facilities, with a combined estimated mortgage amount equal to or in excess of $75 million, in an 18-month period of time are required to submit additional information to a rating agency for evaluation and submission to HUD. The additional information, covering a variety of corporate-related information such as a strategic management plan, is designed to enable HUD to determine the financial and management strength of the proposed sponsor.

DATES: Comments Due Date: May 7, 2001.

ADDRESSES: Interested persons are invited to submit comments regarding this proposal. Comments should refer to the proposal by name and/or OMB Control Number and should be sent to: Joseph F. Lackey, Jr., HUD Desk Officer, Office of Management and Budget, New Executive Office Building, Washington, DC 20503.

FOR FURTHER INFORMATION CONTACT: Wayne Eddins, reports Management Officer, Department of Housing and Urban Development, 451 Seventh Street, SW, Washington, DC 20410, telephone (202) 708-2374 (This is not a toll-free number) or e-mail to Wayne_Eddins@HUD.gov. Copies of the available documents submitted to OMB may be obtained from Mr. Eddins.

SUPPLEMENTARY INFORMATION: The Department has submitted the proposal for the collection of information, as described below, to OMB for review as required by the Paperwork Reduction Act (44 USC Chapter 35). HUD has requested OMB approval by May 7, 2001.

An agency may not conduct or sponsor, and a person is not required to respond to, a collection of information unless collection displays a valid control number.

This notice contains the following information:

(1) The title for the collection of information;

(2) A summary of the collection of information;

(3) A brief description of the need for the information and proposed use of the information;

(4) A description of the likely respondents, including the estimated number of likely respondents, and proposed frequency of response to the collection of information;

(5) An estimate of the total annual reporting and recordkeeping burden that will result from the collection of information;

Title: Review of Health Care Facility Portfolios

OMB Control Number: 2502-

Type of submission: An owner and/or an operator of health care facilities (nursing homes, intermediate care facilities, board and care facilities, or assisted living facilities) may wish to finance or refinance large groups of those facilities. If it intends to seek FHA mortgage insurance for loans for these facilities, and it is planning to finance or refinance a minimum of 11 health care facilities, with combined estimated mortgage amount of $75 million or more, during an 18 month period, then the owner/operator must furnish information that has not been previously required with the application for mortgage insurance. The owner and/or operator will be acting with an FHA-approved lender, or, if the application is to be processed with Multifamily Accelerated Processing (MAP), the lender must be MAP-approved.

The information includes a Corporate Credit Analysis, to be submitted to a credit rating agency (Standard & Poor's, Moody's Investor Services, Fitch IBCA, Duff & Phelps) and the Analysis includes detailed financial information, management policies, and corporate strategy. Owners/operators with 50 or more projects, with estimated combined mortgage amount of $250 million or more must file, in addition to the Corporate Credit Analysis, more detailed information that is required for non-Portfolio owners in connection with the site visit. These large-size owners/operators must also provide information on their other properties and lines of business not being financed with FHA mortgage insurance.

Need and Use of the information

The information is collected and evaluated, first by a rating agency and then by HUD. The purpose is to determine the financial strength and management reliability of the owner/operator. If the owner and/or the operator should go into bankruptcy or be unable to continue management of its large group of properties, the ability of the individual properties to keep operating successfully would be severely jeopardized. The failure of the owner/operator could lead to assignments to HUD of large numbers of health care facilities, and a serious resulting charge to the mortgage insurance fund.

Respondents:

Reporting Burden:

Number of respondents | X | Frequency of response | X | Hours per response | = | Total burden hours

Contact: Eric Stevenson, HUD (202) 708-0614, ext. 2544), Joseph Lackey, OMB, (202) 395-7316

Authority: Section 3507 of the Paperwork Reduction Act of 1995, 44 U.S.C. Chapter 35, as amended.

Dated: April 20, 2001.
Wayne Eddins,
Reports Management Officer, Office of the Chief Information Officer.

[FR Doc. 01-10599 Filed 4-27-01; 8:45 am]

BILLING CODE 4210-27-M